DEPARTMENT OF HEALTH AND HUMAN SERVICES

Office of Inspector General

Notice of Program Exclusions

AGENCY: Office of Inspector General, HHS.

ACTION: Notice of program exclusions.

Important Announcement: This is the final publication of the Office of Inspector General's (OIG) monthly exclusion actions in the Federal Register. Downloadable files of exclusion actions taken each month are available on the OIG's Web site. In addition, the Web site has a downloadable data file and an online searchable database containing all exclusion actions currently in effect. This data is called the List of Excluded Individuals/Entities (LEIE) and is located at http://oig.hhs.gov. Click on EXCLUSIONS DATABASE to access the LEIE and other important information about the OIG's exclusion program.

Program Exclusions: November 2006. During the month of November 2006, the HHS Office of Inspector General imposed exclusions in the cases set forth below. When an exclusions is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject name | Address | Effective date
PROGRAM-RELATED CONVICTION
ADVINCULA, EDWIN | LAS VEGAS, NV | 12/20/2006
BROWN, LORI | HILLIARD, OH | 12/20/2006
COOPER, DAVID | BOONEVILLE, AR | 12/20/2006
HARRISON, ELLEN | INGLESIDE, TX | 12/20/2006
HAZBUN, JOHNY | MIAMI, FL | 12/20/2006
LUNDQUIST, MARK | MOHAWK, NY | 12/20/2006
PERRY, DEBBIE | ST LOUIS, MO | 12/20/2006
RAHIM, KHADIJA | BELLEROSE, NY | 12/20/2006
RAY, BETTY | MISSOURI CITY, TX | 12/20/2006
SAN JOAQUIN VALLEY COMMUNITY SUPPORT SERVICES | FRESNO, CA | 12/20/2006
SARABIA, ERLINDA | PASADENA, MD | 12/20/2006
SASWITZ CORP | MOHEGAN LAKE, NY | 12/20/2006
STRACHAN, LOUIS | THORNTON, PA | 12/20/2006
SULTAN, GULSHAN | CLEVELAND, TN | 12/20/2006
FELONY CONVICTION FOR HEALTH CARE FRAUD
BLATSTEIN, MARC | PENSACOLA, FL | 12/20/2006
BRICK, ROGER | LIVINGSTON, NJ | 12/20/2006
CAPACIO, RICHARD | SICKLERVILLE, NJ | 12/20/2006
GENTRY, MARION | LOUISVILLE, KY | 12/20/2006
JENSEN, TONYA | EL CAJON, CA | 12/20/2006
KAMAKEA-OHELO, RADINE | HONOLULU, HI | 12/20/2006
KORFF, LEWIS | PHILADELPHIA, PA | 12/20/2006
MATURA, WILLIAM | FORT DIX, NJ | 12/20/2006
MOSBAUGH, APRIL | AMARILLO, TX | 12/20/2006
RODRIGUEZ, RONALD | WILLINGBORO, NJ | 12/20/2006
WASHINGTON, DAISEY | CLEVELAND, OH | 12/20/2006
FELONY CONTROLLED SUBSTANCE CONVICTION
FAIR, BARBARA | FT LAUDERDALE, FL | 12/20/2006
MCGURGAN, MELISSA | WACO, TX | 12/20/2006
MENORIA, GALVEN | NEW YORK, NY | 12/20/2006
OSBORN, TAMMIE | LEBANON, TN | 12/20/2006
ROBINSON, HOLLIE | DALLAS, TX | 12/20/2006
SAPOSNIK, IRA | NASHVILLE, TN | 12/20/2006
PATIENT ABUSE/NEGLECT CONVICTION
COMBALECER, RAFAEL | PENNS GROVE, NJ | 12/20/2006
DOOLIN, MARSHA | CYNTHIANA, KY | 12/20/2006
GALLAGHER, JOHN | LANGDON, NH | 12/20/2006
HARPER, MARGARET | SCHENECTADY, NY | 12/20/2006
HOUSTON, STEVEN | BEAVERTON, OR | 12/20/2006
LECLERC, KEVIN | NEWPORT, NH | 12/20/2006
MONTALVO, ANTONIO | HYDE PARK, NY | 12/20/2006
MURRAY, CHARLESETTA | LAWTON, OK | 12/20/2006
RICHMAN, ALAN | FT MYERS, FL | 12/20/2006
SHELTON, DARRELL | RENTON, WA | 12/20/2006
SHELTON, JULIE | RENTON, WA | 12/20/2006
VALADEZ, ALICIA | TEXARKANA, TX | 12/20/2006
CONVICTION-OBSTRUCTION OF AN INVESTIGATION
EL-SILIMY, OSAMA | CARIBOU, ME | 12/20/2006
LICENSE REVOCATION/SUSPENSION/SURRENDER
ADAIR, YOLANDA | NASHVILLE, TN | 12/20/2006
AGUILAR, MARY | PHOENIX, AZ | 12/20/2006
AINSWORTH, DAVID | BRANDON, MS | 12/20/2006
ANCIER, STEPHEN | UPPER MONTCLAIR, NJ | 12/20/2006
ARMENTI, CHERI | S DENNIS, MA | 12/20/2006
BAIRD, PENNY | PADUCAH, KY | 12/20/2006
BARROS, JEANNETTE | LOWELL, MA | 12/20/2006
BARTON, GWENDOLYN | MINDEN, LA | 12/20/2006
BAUTISTA, ROBERT | SAN DIEGO, CA | 12/20/2006
BELL, THERESA | LOUISVILLE, KY | 12/20/2006
BLACK, TRESSA | HAMMOND, LA | 12/20/2006
BLACKWELL, BETTY | SANDY HOOK, MS | 12/20/2006
BLOCK, DANIEL | LEVITTOWN, PA | 12/20/2006
BOYD, RALPH | PENSACOLA, FL | 12/20/2006
BRISSETTE, MICHELLE | PORTLAND, ME | 12/20/2006
BRYAN, DANA | BYHALIA, MS | 12/20/2006
BURKE, KATHY | OCEAN SPRINGS, MS | 12/20/2006
BURTON, SHERRY | HUNTSVILLE, AL | 12/20/2006
CABRAL, ABEL | COOPER CITY, FL | 12/20/2006
CALNAN, MARTHA | TAUNTON, MA | 12/20/2006
CAPRIOLA, EDWARD | HARRISON, NJ | 12/20/2006
CASAREZ-REBER, ANGELA | WACO, TX | 12/20/2006
CHAPLOW, BARBARA | SMITHFIELD, RI | 12/20/2006
CHESIK, JOANNE | PHOENIX, AZ | 12/20/2006
COFINO, ANDRES | MIAMI SPRINGS, FL | 12/20/2006
CONNOR, KIM | ASHBURNHAM, MA | 12/20/2006
CONVERSE, RONALD | LA MESA, CA | 12/20/2006
COOK, SHARON | SAN PABLO, CA | 12/20/2006
CUCINELLI, SHARLENE | SPENCERPORT, NY | 12/20/2006
CUDJOE, RAPHAEL | PETERSBURG, VA | 12/20/2006
D'AMORE, ROBERT | PHOENIX, AZ | 12/20/2006
DAVIS, CYNTHIA | GLENDALE, AZ | 12/20/2006
DAVIS, JEFFREY | KNOXVILLE, TN | 12/20/2006
DENNIS, PATRICIA | QUEEN CREEK, AZ | 12/20/2006
DESROCHERS, MARY | SOUTH HADLEY, MA | 12/20/2006
DORAME, BIANCA | SAFFORD, AZ | 12/20/2006
DUCKWORTH, KIMBERLY | COLLINS, MS | 12/20/2006
EDWARDS, PENNY | DIAMONDHEAD, MS | 12/20/2006
EIDSON, MONIQUE | OROVILLE, CA | 12/20/2006
EMBLER, KENNETH | W PALM BEACH, FL | 12/20/2006
ERIACHO, KRYSTLE | PHOENIX, AZ | 12/20/2006
ESTRADA, AMALIA | SAN BRUNO, CA | 12/20/2006
FELTMAN, AMBER | BERRY, AL | 12/20/2006
FIDLER, WALTER | SUN CITY, AZ | 12/20/2006
FIELDS, ALFRED | NEW YORK, NY | 12/20/2006
FLEET, WILLIAM | MOBILE, AL | 12/20/2006
GABLE, PEARLEY | COLUMBUS, OH | 12/20/2006
GARZA, MICHELLE | YAKIMA, WA | 12/20/2006
GILLEY, KIMBERLY | ELBA, AL | 12/20/2006
GORDON, CHERYL | OCEAN PARK, WA | 12/20/2006
GOTKIND, LAWRENCE | TORONTO | 12/20/2006
GREEN, MAURICE | PLYMOUTH, FL | 12/20/2006
GREENLAND, DONNA | MILLINGTON, TN | 12/20/2006
GROSE, CHRISTY | WESTVILLE, IN | 12/20/2006
HALLIER, CHARLES | TUCSON, AZ | 12/20/2006
HARDAWAY, PAMELA | BRADFORD, TN | 12/20/2006
HARGROVE, KAREN | AUSTIN, TX | 12/20/2006
HATCH, ROSA | BOLIVAR, TN | 12/20/2006
HEILMAN, LISA | GLENPOOL, OK | 12/20/2006
HELMS, HEATHER | MOBILE, AL | 12/20/2006
HENRY, ROBIN | INDIANAPOLIS, IN | 12/20/2006
HERING, DEBRA | SUMMIT, MS | 12/20/2006
HERNANDEZ, ERNIE | MONTGOMERY, TX | 12/20/2006
HOBBS, COREY | JACKSONVILLE, FL | 12/20/2006
HOYT, NANCY | PLEASANT HILL, CA | 12/20/2006
HUFF, JOANNE | SUNDERLAND, MA | 12/20/2006
IBANEZ, CARLOS | CORAL SPRINGS, FL | 12/20/2006
IRWIN, BRENDA | LINEVILLE, AL | 12/20/2006
JACKSON, CHRISTINA | SUMNER, WA | 12/20/2006
JESZ, ANNE | SOUTHBRIDGE, MA | 12/20/2006
JOHNSON, BYRON | PHILADELPHIA, PA | 12/20/2006
JOHNSON, JENNIFER | DAVIE, FL | 12/20/2006
JOYCE, PATRICIA | PHOENIX, AZ | 12/20/2006
KELLEN, PATRICIA | LANCASTER, PA | 12/20/2006
KEMP, NANCY | DALLAS, TX | 12/20/2006
KLINE, SHEPARD | YOUNGTOWN, AZ | 12/20/2006
LAMB, VINCENT | HOUSTON, TX | 12/20/2006
LAY, TOIKA | PHENIX CITY, AL | 12/20/2006
LOCNIKAR, STEVEN | PARADISE VALLEY, AZ | 12/20/2006
LOUIS, VILLA | POMPANO BEACH, FL | 12/20/2006
MARTZ, WILLARD | MIAMI BEACH, FL | 12/20/2006
MATTHEWS, SANDRA | ASHLAND CITY, TN | 12/20/2006
MAURER, TAMARA | PHOENIX, AZ | 12/20/2006
MEDLIN, SKIP | STOCKTON, CA | 12/20/2006
MONTGOMERY, LINDA | GALVESTON, TX | 12/20/2006
MONTGOMERY, NIKKI | PONTOTOC, MS | 12/20/2006
MORALL, KATHY | CENTENNIAL, CO | 12/20/2006
MURPHY, TINA | ABBEVILLE, AL | 12/20/2006
MURRIETTA, JANIS | ELOY, AZ | 12/20/2006
MUSGROVE, CARRIE | TRUSSVILLE, AL | 12/20/2006
ODEH, FARRIS | STREAMWOOD, IL | 12/20/2006
ORTIZ, DIANA | SALEM, MA | 12/20/2006
OSTROSKI, JENNIFER | ORO VALLEY, AZ | 12/20/2006
PALKA, ROSEANNE | DOYLESTOWN, PA | 12/20/2006
PARNELL, JOSHUA | OAKLAND, OR | 12/20/2006
PORTER, RANDY | WEST POINT, UT | 12/20/2006
PRITCHARD, JUDITH | PAWHUSKA, OK | 12/20/2006
PRITCHARD, LAWRENCE | BULLHEAD, AZ | 12/20/2006
RANDALL, JOHN | GREEN BAY, WI | 12/20/2006
REESE, CHERILYN | TUCSON, AZ | 12/20/2006
RICO, JOSEFINA | SPRING VALLEY, CA | 12/20/2006
RIGDON, DEBORAH | UNION, MS | 12/20/2006
RIMERMAN, VALERY | CLOSTER, NJ | 12/20/2006
RIST, CASSY | KINGMAN, AZ | 12/20/2006
ROSS, VALERIE | PHOENIX, AZ | 12/20/2006
RUDLANG, AMY | EDMOND, OK | 12/20/2006
SCHAULE, SANDY | ASHFORD, AL | 12/20/2006
SCHMIDT, VICKI | RICHMOND, VA | 12/20/2006
SCOTT, PATRICIA | KILLEN, AL | 12/20/2006
SEAY, CRYSTAL | RICHMOND, VA | 12/20/2006
SHARMAN, WILLIAM | MOBILE, AL | 12/20/2006
SHEEHAN, PATRICIA | BOCA RATON, FL | 12/20/2006
SHUGART, DEANNA | CHANDLER, AZ | 12/20/2006
SIMMONS, TIMOTHY | HONOLULU, HI | 12/20/2006
SIMS, LEE | HARRODSBURG, KY | 12/20/2006
SLAYTON, SASHA | KENT, WA | 12/20/2006
SMITH, STEVEN | LAS VEGAS, NV | 12/20/2006
SPAIN, JEANNE | MANITOU, KY | 12/20/2006
STAPLEMAN, CRISTINA | TUCSON, AZ | 12/20/2006
STEPHENS, LISA | NEW PORT RICHEY, FL | 12/20/2006
STOKES, JAMIE | FLORALA, AL | 12/20/2006
STORMS, DAWNA | SALT LAKE CITY, UT | 12/20/2006
STOWE, CANDISE | SMITHS, AL | 12/20/2006
STUMBO, EMILY | GEORGETOWN, KY | 12/20/2006
SWORDS, CHRISTY | DOTHAN, AL | 12/20/2006
THOMAS, BARBARA | GRANDVIEW, MO | 12/20/2006
THOMAS, STEVEN | MONTICELLO, FL | 12/20/2006
THOMPSON, LAURA | POWELL, TN | 12/20/2006
TIMMER, BARBARA | PRESCOTT, AZ | 12/20/2006
TRUMAN, MELISSA | MESA, AZ | 12/20/2006
TULIAO, VILMA | S SAN FRANCISCO, CA | 12/20/2006
TWITCHELL, JOANNA | SALT LAKE CITY, UT | 12/20/2006
URTIZ, BLANCA | CUTLER, CA | 12/20/2006
VASQUEZ, STEPHANIE | WOODLAKE, CA | 12/20/2006
VILLANUEVA, ANA | TUCSON, AZ | 12/20/2006
VILLANUEVA, HERMINIA | CARSON, CA | 12/20/2006
VOSS, JULIE | LONGVIEW, WA | 12/20/2006
WHEELER, KATHY | PARKER, ID | 12/20/2006
WHITEWOLF, FAEGHAN | AUSTIN, TX | 12/20/2006
WILEY, JOHN | BONNEY LAKE, WA | 12/20/2006
WILLIAMS, LAURA | EVANSVILLE, IN | 12/20/2006
WILLIAMS, SHELLY | POINCIANA, FL | 12/20/2006
YANDA, DEBRA | OKLAHOMA CITY, OK | 12/20/2006
ZAIGER, MARY | MAYNARDVILLE, TN | 12/20/2006
FRAUD/KICKBACKS/PROHIBITED ACTS/SETTLEMENT AGREEMENTS
HUESER, JAMES | COLUMBIA, MO | 12/31/2005
JAMES N HUESER, MD, INC | COLUMBIA, MO | 12/31/2005
OWNED/CONTROLLED BY EXCLUDED/CONVICTED INDIVIDUAL
ALL EQUIPMENTS SERVICES, INC | MIAMI, FL | 12/20/2006
BUSINESS HELP 501, INC | TULSA, OK | 12/20/2006
COVENANT MS, INC | TALLAHASSEE, FL | 12/20/2006
DR LINDA K MORGAN DO MINISTRIES, INC | BELLAIRE, TX | 12/20/2006
DUMARO PHARMACY, INC | MIAMI, FL | 12/20/2006
EMILY MEDICAL EQUIPMENT, INC | HIALEAH, FL | 12/20/2006
PROFESSIONAL SERVICES SUPPLY, INC | HIALEAH, FL | 12/20/2006
QUALITY CLINICAL LAB SCIENCE, INC | GLENDALE, CA | 12/20/2006
DEFAULT ON HEALTH LOAN
BAILEY-MCFADDEN, ANGELA | N MYRTLE BEACH, SC | 12/20/2006
CARTER, CATHERINE | BELLEVUE, WA | 12/20/2006
FEINMAN, BRIAN | NEWARK, NJ | 12/20/2006
MOORE, SCOTT | CITRUS HEIGHTS, CA | 12/20/2006
STEMMLE, CHRISTIE | ANCHORAGE, AK | 12/20/2006
VU, TRI | SAN JOSE, CA | 12/20/2006
YNIGUEZ, ALMA | NEWARK, CA | 12/20/2006
OWNERS OF EXCLUDED ENTITIES
REID, LOIS | HOMOSASSA, FL | 12/20/2006

Dated: December 6, 2006.
Maureen R. Byer,
Director, Exclusions Staff, Office of Inspector General.

[FR Doc. E6-21363 Filed 12-14-06; 8:45 am]

BILLING CODE 4152-01-P